DEPARTMENT OF COMMERCE

National Oceanic and Atmospheric Administration

[RTID 0648-XA557]

South Atlantic Fishery Management Council; Public Meeting

AGENCY: National Marine Fisheries Service (NMFS), National Oceanic and Atmospheric Administration (NOAA), Commerce.

ACTION: Notice of public meetings.

SUMMARY: The South Atlantic Fishery Management Council's (Council) will hold a meeting of the Snapper Grouper Advisory Panel (AP) on November 4-6, 2020.

DATES: The Snapper Grouper AP will meet from 1:30 p.m.-4:30 p.m. on November 4, 2020; 9 a.m. to 4 p.m. on November 5, 2020; and 9 a.m. to 12 p.m. on November 6, 2020.

ADDRESSES: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The AP meeting is open to the public and will be available via webinar as it occurs. Registration is required. Webinar registration information, a public comment form, and other meeting materials will be posted to the Council's website at: http://safmc.net/safmc-meetings/current-advisory-panel-meetings/ as it becomes available.

The Snapper Grouper AP will discuss and provide recommendations on the following topics: The need for conservation and management of eight snapper grouper species (cubera snapper, margate, sailor's choice, coney, yellowfin grouper, saucereye porgy, misty grouper, and blackfin snapper); management measures for red porgy, best fishing practices and use of descending devices; and recreational management issues in the South Atlantic region. In addition, the AP will provide information to develop a Fishery Performance Report for red snapper. The AP will also receive updates on the MyFishCount voluntary recreational reporting project, the Council's Citizen Science Program initiatives, potential regional efforts to address management challenges related to climate change, shark depredation, and other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: October 14, 2020.
Tracey L. Thompson,
Acting Deputy Director, Office of Sustainable Fisheries, National Marine Fisheries Service.

[FR Doc. 2020-23049 Filed 10-16-20; 8:45 am]

BILLING CODE 3510-22-P